DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 29, 2008. Address written comments to Statutory Import Programs Staff, Room 2104, U.S. Department of Commerce, Washington, DC 20230. Applications may be examined between 8:30 a.m. and 5 p.m. at the U.S. Department of Commerce in Room 2104.

Docket Number: 08-043. Applicant: Harvard University, 7 Divinity Ave., SF 267C, Cambridge, MA 02138. Instrument: Electron Microscope, Model Tecnai G2 F20 TWIN. Manufacturer: FEI Company, the Netherlands. Intended Use: The instrument is intended to be used to study macromolecular complexes involved in a variety of cellular functions. The high-resolution information obtained with the instrument will be used to elucidate the chemical structure of these biological molecules and connect the structures to their function. Application accepted by Commissioner of Customs: August 15, 2008.

Docket Number: 08-044. Applicant: Pennsylvania University, College of Medicine; 500 University Drive, Hershey, PA 17033. Instrument: Electron Microscope, Model JEM-1400. Manufacturer: JEOL, Ltd., Japan. Intended Use: This instrument will be used to study a wide range of biological materials, including biological samples of tissues from a variety of vertebrate species and from various organs. Specifically, the instrument will be used to identify detailed tissue structures in order to understand both normal physiology and pathophysiology. Application accepted by Commissioner of Customs: August 15, 2008.

Docket Number: 08-045. Applicant: University of Texas at Austin, 1 University Station, A4800, Austin, TX 78712. Instrument: Electron Microscope, Tecnai G2 Spirit BioTWIN. Manufacturer: FEI Company, Czech Republic. Intended Use: The instrument is intended to be used to examine biological specimens using transmission electron microscopy. The instrument will be used for a wide variety of samples applications. Application accepted by Commissioner of Customs: August 21, 2008.

Dated: August 28, 2008.
Faye Robinson,
Director, Statutory Import Programs Staff.

[FR Doc. E8-20545 Filed 9-8-08; 8:45 am]

BILLING CODE 3510-DS-M